SURFACE TRANSPORTATION BOARD

[Docket No. AB 1324X]

Alabama Railroad, LLC—Abandonment Exemption—in Escambia, Conecuh, and Monroe Counties, Ala.

On July 6, 2022, Alabama Railroad, LLC (ARL), filed a petition under 49 U.S.C. 10502 for exemption from the prior approval requirements of 49 U.S.C. 10903 to abandon approximately 47.5 miles of rail line, extending from milepost 607.73 at Flomaton, Ala., to milepost 655.2 near Tunnel Springs, Ala., including all sidings and the MR Junction Spur between valuation stations 0+00 and 90+81 in Escambia, Conecuh, and Monroe Counties, Ala. (the Line). The Line traverses U.S. Postal Service Zip Codes 36426, 36441, 36460, 36471, and 36475.

According to ARL, it purchased the Line from Alabama Railroad Co. (ALAB) in 2020. See Ala. R.R.—Acquis. & Operation Exemption—Line of Ala. R.R., FD 36450 (STB served Nov. 6, 2020). The petition states that prior to ALAB's sale of the Line, ALAB obtained Board authority to abandon the Line but never consummated the abandonment. See Ala. R.R.—Aban. Exemption—in Escambia, Conecuh, & Monroe Cntys., Ala., AB 463 (Sub-No. 2X) (STB served Apr. 18, 2019). ARL states that since it purchased the Line, it has not moved any local traffic over the Line, and, because the Line is stub-ended, there is no overhead traffic. ARL states that it doubts that future demand for service will materialize, particularly at volumes that would warrant restoring operations, and therefore seeks to abandon the Line to facilitate future disposition of the Line's track assets and underlying right-of-way.

ARL states that, based on the information in its possession, the Line does not contain federally granted rights-of-way and any relevant documentation in ARL's possession related to that statement will be made available promptly to those requesting it.

Citing Knox & Kane Railroad—Abandonment Exemption—McKean County, Pa., AB 551 (Sub-No. 2X) (STB served July 24, 2015), ARL asserts that, because it proposes to abandon its entire railroad system, it is appropriate for the Board to refrain from imposing labor protective conditions because there will be no remaining entity subject to the Board's jurisdiction.

By issuance of this notice, the Board is instituting an exemption proceeding pursuant to 49 U.S.C. 10502(b). A final decision will be issued by October 24, 2022.

Any offer of financial assistance (OFA) under 49 CFR 1152.27(b)(2) will be due no later than 120 days after the filing of the petition for exemption, or 10 days after service of a decision granting the petition for exemption, whichever occurs sooner. Persons interested in submitting an OFA must first file a formal expression of intent to file an offer by August 5, 2022, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than August 15, 2022.¹

¹ Filing fees for OFAs and trail use requests can be found at 49 CFR 1002.2(f)(25) and (27), respectively.

All pleadings, referring to Docket No. AB 1324X, must be filed with the Surface Transportation Board either via e-filing on the Board's website or in writing addressed to 395 E Street SW, Washington, DC 20423-0001. In addition, a copy of each pleading must be served on ARL's representative, Robert A. Wimbish, Fletcher & Sippel LLC, 29 North Wacker Drive, Suite 800, Chicago, IL 60606. Replies to the petition are due on or before August 15, 2022.

Persons seeking further information concerning abandonment procedures may contact the Board's Office of Public Assistance, Governmental Affairs, and Compliance at (202) 245-0238 or refer to the full abandonment and discontinuance regulations at 49 CFR part 1152. Questions concerning environmental issues may be directed to the Board's Office of Environmental Analysis (OEA) at (202) 245-0294. Assistance for the hearing impaired is available through the Federal Relay Service at (800) 877-8339.

A Draft Environmental Assessment (Draft EA) (or Draft Environmental Impact Statement (Draft EIS), if necessary) prepared by OEA will be served upon all parties of record and upon any other agencies or persons who comment during its preparation. Other interested persons may contact OEA to obtain a copy of the Draft EA (or Draft EIS). Draft EAs in abandonment proceedings normally will be made available within 60 days of the filing of the petition. The deadline for submission of comments on the Draft EA generally will be within 30 days of its service.

Board decisions and notices are available at www.stb.gov.

Decided: July 21, 2022.
By the Board, Mai T. Dinh, Director, Office of Proceedings.
Eden Besera,
Clearance Clerk.

[FR Doc. 2022-15977 Filed 7-25-22; 8:45 am]

BILLING CODE 4915-01-P